LIBRARY OF CONGRESS

Copyright Royalty Board

37 CFR Part 381

[Docket No. 2006-2 CRB NCBRA]

Noncommercial Educational Broadcasting Statutory License

Correction

In proposed rule document E7-18939 beginning on page 54622 in the issue of Wednesday, September 26, 2007 make the following correction:

§ 381.7 [Corrected]

On page 54623, in § 381.7(b)(1)(i)(C), in the third column, in the table, in the second column, in the second entry “$457.66” should read “$57.66”.

[FR Doc. Z7-18939 Filed 10-4-07; 8:45 am]

BILLING CODE 1505-01-D